ENVIRONMENTAL PROTECTION AGENCY

[FRL-8558-6]

National Advisory Council for Environmental Policy and Technology

AGENCY: Environmental Protection Agency (EPA).

ACTION: Notice of meeting.

SUMMARY: Under the Federal Advisory Committee Act, Public Law 92463, EPA gives notice of a meeting of the National Advisory Council for Environmental Policy and Technology (NACEPT). NACEPT provides advice to the EPA Administrator on a broad range of environmental policy, technology, and management issues. The Council is a panel of individuals who represent diverse interests from academia, industry, non-governmental organizations, and local, state, and tribal governments. The purpose of this meeting is to discuss biofuels, environmental technology, and sustainable water infrastructure. The Council will also be discussing potential projects on environmental information and integrated modeling for integrated environmental decision making, among other issues. A copy of the agenda for the meeting will be posted at http://www.epa.gov/ocem/nacept/cal-nacept.htm.

DATES: NACEPT will hold a two day open meeting on Wednesday, May 14, 2008, from 8:30 a.m. to 12:30 p.m. and Thursday, May 15, 2008, from 12 p.m. to 2 p.m.

ADDRESSES: The meeting will be held at the U.S. EPA's Potomac Yards Conference Center, 2777 Crystal Drive, Arlington, VA 22202. The meeting is open to the public, with limited seating on a first-come, first-served basis.

FOR FURTHER INFORMATION CONTACT: Sonia Altieri, Designated Federal Officer, altieri.sonia@epa.gov, (202) 564-0243, U.S. EPA, Office of Cooperative Environmental Management (1601M), 1200 Pennsylvania Avenue, NW., Washington, DC 20460.

SUPPLEMENTARY INFORMATION: Requests to make oral comments or to provide written comments to the Council should be sent to Sonia Altieri, Designated Federal Officer, at the contact information above. All requests must be submitted no later than May 8, 2008.

Meeting Access: For information on access or services for individuals with disabilities, please contact Sonia Altieri at 202-564-0243 or altieri.sonia@epa.gov. To request accommodation of a disability, please contact Sonia Altieri, preferably at least 10 days prior to the meeting, to give EPA as much time as possible to process your request.

Dated: April 17, 2008.
Sonia Altieri,
Designated Federal Officer.

[FR Doc. E8-9125 Filed 4-24-08; 8:45 am]

BILLING CODE 6560-50-P